NATIONAL FOUNDATION ON THE ARTS AND THE HUMANITIES

Meetings of Humanities Panel

AGENCY: National Endowment for the Humanities.

ACTION: Notice of Meetings.

SUMMARY: The National Endowment for the Humanities will hold ten meetings of the Humanities Panel, a federal advisory committee, during December, 2014. The purpose of the meetings is for panel review, discussion, evaluation, and recommendation of applications for financial assistance under the National Foundation on the Arts and Humanities Act of 1965.

DATES: See SUPPLEMENTARY INFORMATION section for meeting dates.

ADDRESSES: The meetings will be held at Constitution Center, 400 7th Street SW., Washington, DC 20506. See Supplementary Information section for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: December 02, 2014

Time: 8:30 a.m. to 5:00 p.m.

Room: P003

This meeting will discuss applications on the subject of American Studies for the Humanities Collections and Reference Resources grant program, submitted to the Division of Preservation and Access.

2. Date: December 02, 2014

Time: 8:30 a.m. to 5:00 p.m.

Room: 4002

This meeting will discuss applications on the subjects of Geospatial and Visualization for Digital Humanities Start-Up Grants, submitted to the Office Digital Humanities.

3. Date: December 03, 2014

Time: 8:30 a.m. to 5:00 p.m.

Room: 4002

This meeting will discuss applications on the subject of Research for Digital Humanities Start-Up Grants, submitted to the Office of Digital Humanities.

4. Date: December 04, 2014

Time: 8:30 a.m. to 5:00 p.m.

Room: P003

This meeting will discuss applications on the subject of Literature for the Humanities Collections and Reference Resources grant program, submitted to the Division of Preservation and Access.

5. Date: December 04, 2014

Time: 8:30 a.m. to 5:00 p.m.

Room: 4002

This meeting will discuss applications for Fellowship Programs at Independent Research Institutions, submitted to the Division of Research Programs.

6. Date: December 08, 2014

Time: 8:30 a.m. to 5:00 p.m.

Room: 4002

This meeting will discuss applications on the subjects of Archives and Digital Collections for Digital Humanities Start-Up Grants, submitted to the Office of Digital Humanities.

7. Date: December 09, 2014

Time: 8:30 a.m. to 5:00 p.m.

Room: 4002

This meeting will discuss applications on the subject of Public Programs for Digital Humanities Start-Up Grants, submitted to the Office of Digital Humanities.

8. Date: December 11, 2014

Time: 8:30 a.m. to 5:00 p.m.

Room: 4002

This meeting will discuss applications on the subjects of Archives and Digital Collections for Digital Humanities Start-Up Grants, submitted to the Office of Digital Humanities.

9. Date: December 12, 2014

Time: 8:30 a.m. to 5:00 p.m.

Room: Conference Call

This meeting will discuss applications on the subject of Linguistics for the Humanities Collections and Reference Resources grant program, submitted to the Division of Preservation and Access.

10. Date: December 12, 2014

Time: 8:30 a.m. to 5:00 p.m.

Room: Conference Call

This meeting will discuss applications on the subject of World Studies for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: November 5, 2014.
Lisette Voyatzis,
Committee Management Officer.

[FR Doc. 2014-26770 Filed 11-10-14; 8:45 am]

BILLING CODE 7536-01-P